NATIONAL AERONAUTICS AND SPACE ADMINISTRATION

[Notice (01-081)]

NASA Advisory Council (NAC), Space Science Advisory Committee (SScAC, Sun-Earth Connection Advisory Subcommittee

AGENCY: National Aeronautics and Space Administration.

ACTION: Notice of Meeting.

SUMMARY: In accordance with the Federal Advisory Committee Act, Pub. L. 92-463, as amended, the National Aeronautics and Space Administration announces a forthcoming meeting of the NASA Advisory Council, Space Science Advisory Committee, Sun-Earth Connection Advisory Subcommittee.

DATES: Monday, July 23, 2001, 8:30 a.m. to 6 p.m.; Tuesday, July 24, 2001, 8:30 a.m. to 5 p.m.

ADDRESSES: National Aeronautics and Space Administration, Conference Room 6H46, 300 E Street, SW, Washington, DC, 20546.

FOR FURTHER INFORMATION CONTACT: Dr. George L. Withbroe, Code S, National Aeronautics and Space Administration, Washington, DC 20546, 202/358-2150.

SUPPLEMENTARY INFORMATION: The meeting will be open to the public up to the capacity of the room. The agenda for the meeting includes the following topics:

—State of the Sun-Earth Connection Theme

—Geospace Management Operations Working Group

—Living With a Star Science Architecture Committee

—Solar/Heliospheric Management Operation Working Group

—Report of Discipline Scientists

It is imperative that the meeting be held on these dates to accommodate the scheduling priorities of the key participants. Visitors will be requested to sign a visitor's register.

Dated: June 19, 2001.
Beth M. McCormick,
Advisory Committee Management Officer, National Aeronautics and Space Administration.

[FR Doc. 01-15868 Filed 6-22-01; 8:45 am]

BILLING CODE 7510-01-P